DEPARTMENT OF HEALTH AND HUMAN SERVICES

Food and Drug Administration

Anti-Infective Drugs Advisory Committee Meeting; Cancellation

AGENCY: Food and Drug Administration, HHS.

ACTION: Notice.

SUMMARY: The Food and Drug Administration (FDA) is canceling the meeting of the Anti-Infective Drugs Advisory Committee scheduled for May 10, 2004. This meeting was announced in the Federal Register of April 19, 2004 (69 FR 20940).

FOR FURTHER INFORMATION CONTACT: Tara P. Turner, Center for Drug Evaluation and Research (HFD-21), Food and Drug Administration, 5600 Fishers Lane (for express delivery, 5630 Fishers Lane, rm. 1093), Rockville, MD 20857, 301-827-7001, fax: 301-827-6776, or e-mail:TurnerT@cder.fda.gov, or FDA Advisory Committee Information Line, 1-800-741-8138 (301-443-0572 in the Washington, DC area), code 3014512530.

Dated: April 4, 2004.
Peter J. Pitts,
Associate Commissioner for External Relations.

[FR Doc. 04-10499 Filed 5-7-04; 8:45 am]

BILLING CODE 4160-01-S